DEPARTMENT OF LABOR

Office of the Secretary

Submission for OMB Review; Comment Request

October 10, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on (202) 693-4129 or E-Mail: King-Darrin@dol.gov.

Comments should be sent to Office of Information and Regulatory Affairs, Attn: OMB Desk Officer for ETA, Office of Management and Budget, Room 10235, Washington, DC 20503 (202-395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Extension of a currently approved collection.

Title: Employment and Training Administration (ETA) Disaster Unemployment Assistance (DUA) Handbook and Operating Forms, Including ETA-90-2, Disaster Payment Activities Under the “Stafford Disaster Relief Act”.

OMB Number: 1205-0051.

Affected Public: Individuals or households; Federal Government; and State, Local, or Tribal Government.

Type of Response: Recordkeeping and Reporting.

Frequency: On occasion; Monthly; Weekly; and Bi-weekly.

Requirement | Number of respondents | Annual reports | Annual responses | Average response time (hours) | Annual burden hours
ETA From 90-2 | 50 | 6 | 300 | 0.17 | 50
Initial Application (includes processing, determining eligibility, issuing notices, recordkeeping, etc.) | 11,000 | 1 | 11,000 | 0.17 | 1,833
Supplemental to Initial Application | 3,800 | 1 | 3,800 | 0.17 | 633
Weekly Claim (includes processing, determining eligibility, issuing adjustment notices, recordkeeping, etc. | 11,000 | 6 | 66,000 | 0.08 | 5,500
Notice of Overpayment | 235 | 1 | 235 | 0.25 | 59
Final Report | 50 | 1 | 50 | 1.00 | 50
Cost/Expense Reports (50 initial & 25 supplemental) | 50 |  | 75 | 0.25 | 19
Miscellaneous Recordkeeping | 50 | N/A | 81,335 | 0.03 | 2,033
Total | 26,235 |  | 162,795 |  | 10,177
*This figure represents the average number of weeks of unemployment experienced (weeks paid) by individuals for disasters declared each year.

Total Annualized Capital/Startup Costs: $0.

Total Annual Costs (operating/maintaining systems or purchasing services): $0.

Description: The information collection requirements contained in Employment and Training Handbook No. 356, 2nd Edition, “Disaster Unemployment Assistance,” are necessary for the administration of sections 410 and 423 of the Robert T. Stafford Disaster Relief and Emergency Assistance Act (the Act). Workload items are also used with fiscal reports to estimate the cost of administering the Act.

Marlene J. Howze,
Acting Departmental Clearance Officer.

[FR Doc. 02-26838 Filed 10-21-02; 8:45 am]

BILLING CODE 4510-30-M